DEPARTMENT OF COMMERCE

Foreign-Trade Zones Board

[T-2-2009]

Foreign-Trade Zone Subzone 33E—Mount Pleasant, PA; Temporary/Interim Manufacturing Authority; DNP IMS America Corporation (Thermal Transfer Ribbon Printer Rolls); Notice of Approval

On December 10, 2009, an application was filed by the Executive Secretary of the Foreign-Trade Zones (FTZ) Board submitted by the Regional Industrial Development Corporation of Southwestern Pennsylvania, grantee of FTZ 33, requesting temporary/interim manufacturing (T/IM) authority, on behalf of DNP IMS America Corporation to manufacture thermal transfer ribbon printer rolls under FTZ procedures within SZ 33E in Mount Pleasant, Pennsylvania.

The application was processed in accordance with T/IM procedures, as authorized by FTZ Board Orders 1347 (69 FR 52857, 8/30/04) and 1480 (71 FR 55422, 9/22/06), including notice in the Federal Register inviting public comment (74 FR 66617, 12/16/09). The foreign-origin component approved for this activity is master rolls of thermal transfer ribbon (HTSUS 3702.39). The FTZ staff examiner reviewed the application and determined that it meets the criteria for approval under T/IM procedures. Pursuant to the authority delegated to the FTZ Board Executive Secretary in the above-referenced Board Orders, the application is approved, effective this date, until March 5, 2011, subject to the FTZ Act and the Board's regulations, including Section 400.28.

Dated: March 5, 2010.
Andrew McGilvray,
Executive Secretary.

[FR Doc. 2010-5822 Filed 3-16-10; 8:45 am]

BILLING CODE P